U.S. AGENCY FOR INTERNATIONAL DEVELOPMENT

Board for International Food and Agricultural Development

Notice of Meeting

Pursuant to the Federal Advisory Committee Act, notice is hereby given of a public meeting of the Board for International Food and Agricultural Development (BIFAD), COVID-19 and Nutrition: Impacts, Field Innovations, and the Way Forward. The meeting will be held on September 14, 2020 from 10:00 a.m. to 12:30 p.m. EDT at http://www.aplu.org/projects-and-initiatives/international-programs/bifad/bifad-meetings.html. A public comment period is scheduled from 11:50 a.m. to 12:15 p.m. EDT.

This convening follows the June 4, 2020 181st BIFAD meeting, Food Security and Nutrition in the Context of COVID-19, to provide an update on the impacts of the pandemic on nutrition outcomes and to discuss USAID's response. The COVID-19 crisis risks backsliding on nutrition gains with irrevocable impacts on mortality and lost potential. Initial projections show likely significant increases in wasting and forthcoming analyses will quantify the potential impacts on small for gestational age, micronutrient deficiencies, stunting and declines in breastfeeding. Field reporting indicates significant reduction in coverage of key nutrition interventions. These will all translate in loss of life and development gains if not countered with adequate action on nutrition as global decision makers focus on response and recovery.

The meeting provides dedicated time to discuss how the global community can work together to protect and advance nutrition outcomes across sectors during COVID-19 response and recovery. In real time, researchers and implementers are gathering evidence to better understand the impacts of the pandemic and learning how to respond.

The meeting will be organized to achieve three objectives:

1. To provide an update on what emerging research and data can tell us about the current and expected impacts of COVID-19 containment and control measures on nutrition, and how we should use this emerging evidence to guide our response.

2. To learn from our implementing partners and USAID Missions across sectors that have pivoted their implementation to respond to COVID-19 and protect nutrition outcomes. To understand the realities on the ground, and to include the innovations and expertise of those on the frontlines in the discourse.

3. To discuss and prioritize actions for the near, medium, and long term to safeguard and accelerate nutrition progress.

The meeting is intended to help support decision making by USAID and its partners and stakeholders working to advance food security and nutrition at global, regional and national levels. On the basis of testimony, including public comments, shared at the meeting, BIFAD will provide formal findings, conclusions, and recommendations to the Agency on best-bet operational and programmatic investments.

BIFAD is a seven-member, presidentially appointed advisory board to USAID established in 1975 under Title XII of the Foreign Assistance Act, as amended. The provisions of Title XII concern bringing the assets of U.S. universities to bear on development challenges in agriculture and food security, and BIFAD's role is to help carry out this function.

Participants may register at http://www.aplu.org/projects-and-initiatives/international-programs/bifad/bifad-meetings.html. For questions about registration, please contact Jordan Merker at 202-478-6087 or jmerker@aplu.org. For questions about BIFAD, please contact Clara Cohen, Designated Federal Officer for BIFAD in the Bureau for Resilience and Food Security, USAID at ccohen@usaid.gov or (202) 712-0119.

Clara Cohen,
Designated Federal Officer, BIFAD.

[FR Doc. 2020-17387 Filed 8-7-20; 8:45 am]

BILLING CODE 6116-02-P